DEPARTMENT OF AGRICULTURE

Foreign Agricultural Service

Adjustment of Appendices Under the Dairy Tariff-Rate Quota Import Licensing Regulation

AGENCY: Foreign Agricultural Service, USDA.

ACTION: Notice.

SUMMARY: This notice announces the transfer of amounts for certain dairy articles from the historical license category (Appendix 1) to the lottery (nonhistorical) license category (Appendix 2) pursuant to the Dairy Tariff-Rate Quota Import Licensing regulations for the 2021 quota year. In addition, adjustments have been made to the Appendices to reflect changes to United Kingdom (UK) and European Union (EU) country allocations for certain tariff rate quotas (TRQs) and other changes to the Harmonized Tariff Schedule of the United States (HTSUS) made by the U.S. Trade Representative in response to the withdrawal of the UK from the EU and the accession of Croatia to the EU, which will go into effect for the 2022 quota year. Appendices 1 and 2 for the EU-27 for Additional U.S. Note 16 to Chapter 4 have also been adjusted to account for a clerical error in last year's Appendices 1 and 2 published amounts. This correction does not increase the overall quantity allotted to the EU-27 and the UK.

DATES: September 2, 2021.

FOR FURTHER INFORMATION CONTACT: Abdelsalam El-Farra, (202) 720-9439; abdelsalam.el-farra@fas.usda.gov.

SUPPLEMENTARY INFORMATION: The Foreign Agricultural Service, under a delegation of authority from the Under Secretary for Trade and Foreign Agricultural Affairs, administers the Dairy Tariff-Rate Quota Import Licensing regulation codified at 7 CFR 6.20 through 6.36 that provides for the issuance of licenses to import certain dairy articles under TRQs as set forth in the HTSUS. These dairy articles may only be entered into the United States at the low-tier tariff by or for the account of a person or firm to whom such licenses have been issued and only in accordance with the terms and conditions of the regulation.

Licenses are issued on a calendar year basis, and each license authorizes the license holder to import a specified quantity and type of dairy article from a specified country of origin. The Imports Program, Foreign Agricultural Service, U.S. Department of Agriculture, issues these licenses and, in conjunction with U.S. Customs and Border Protection, U.S. Department of Homeland Security, monitors their use.

The regulation at 7 CFR 6.34(a) states that whenever a historical license (Appendix 1) is permanently surrendered, revoked by the Licensing Authority, or not issued to an applicant pursuant to the provisions of § 6.23, then the amount of such license will be transferred to Appendix 2. Section 6.34(b) provides that the cumulative annual transfers will be published by notice in the Federal Register. Accordingly, this document sets forth the revised Appendices in the table below. The quantities for designated licenses (Appendix 3 and Appendix 4) are also included in the table below for completeness.

In addition, the Appendices have been revised to reflect modified EU and UK country allocations under certain TRQs in Chapter 4 of the HTSUS made by the U.S. Trade Representative in response to the withdrawal of the UK from the EU and to acknowledge the accession of Croatia to the EU. On July 6, 2021, the U.S. Trade Representative announced, inter alia, that: (1) The TRQs allocated to the EU under Additional U.S. Notes 6, 16, 17, and 18 to Chapter 4 will be allocated between the EU and the UK according to the average percentage of in-quota imports for the 2013-2015 period; and (2) the UK would have access to a specific in-quota quantity under these notes. Specifically, the U.S. Trade Representative announced that, effective with respect to articles entered for consumption, or withdrawn from warehouse for consumption, on or after January 1, 2022:

1. Additional U.S. Note 2 to Chapter 4 of the HTSUS is modified by: (a) Inserting “Croatia,” into the list of countries in alphabetical order; and (b) deleting “the Slovak Republic, Sweden or the United Kingdom” and inserting “the Slovak Republic or Sweden” in lieu thereof.

2. With respect to the published in-quota quantity of 96,161 kilograms allocated to the EU 27 for the TRQ in Additional U.S. Note 6 to Chapter 4 of the HTSUS, the UK shall have access to a quantity of not less than 14,062 kilograms and the EU 27 shall have access to a quantity of not less than 82,099 kilograms.

3. Additional U.S. Note 16 to Chapter 4 of the HTSUS is modified by: (a) Inserting “United Kingdom” into the list of countries in alphabetical order; (b) inserting a quota quantity of “2,213,374” in the Quantity (kg) column for the United Kingdom; (c) deleting the quantity “27,846,224” in the Quantity (kg) column for the EU27; and (d) “25,632,850” in the Quantity (kg) column for the EU27 in lieu thereof.

4. Additional U.S. Note 17 to Chapter 4 of the HTSUS is modified by: (a) Inserting “United Kingdom” into the list of countries in alphabetical order; (b) inserting a quota quantity of “23,617”' in the Quantity (kg) column for the United Kingdom; (c) deleting the quantity “2,829,000” in the Quantity (kg) column for the EU27; and (d) inserting “2,805,383” in the Quantity (kg) column for the EU27 in lieu thereof.

5. Additional U.S. Note 18 to Chapter 4 of the HTSUS is modified by: (a) Inserting “United Kingdom” into the list of countries in alphabetical order; (b) inserting a quota quantity of “895,948” in the Quantity (kg) column for the United Kingdom; (c) deleting the quantity “1,31,000” in the Quantity (kg) column for the EU27; and (d) inserting “417,052” in the Quantity (kg) column for the EU27 in lieu thereof.

For U.S. TRQs under Additional U.S. Notes 19 to 23 and 25 to Chapter 4, the UK otherwise will be eligible to export under the in-quota quantities allocated to “other countries or areas.” See Modification of U.S. Tariff-Rate Quotas and the Harmonized Tariff Schedule of the United States (86 FR 35560 (July 6, 2021)). Accordingly, the Licensing Authority has divided the amounts allocated to the EU under Additional U.S. Notes 6, 16, 17, and 18 in Appendices 1, 2, 3 and 4, as applicable, between the EU and the UK by directly applying the percentages used by the U.S. Trade Representative to allocate the overall TRQs under those notes.

Entities that currently hold EU-27 historical licenses for TRQs under Additional U.S. Notes 6, 16, 17, and 18 that wish to retain their EU-27 historical licenses and/or obtain UK historical licenses under these TRQs for the 2022 TRQ year and that otherwise qualify for carry over of such EU-27 historical licenses will be instructed to apply to carry over the EU-27 historical license and/or to obtain a UK historical license. The quantities of the new EU-27 license and/or UK license for the 2022 TRQ year that will be issued under these TRQs will be determined by allocating the original EU-27 license quantity between the two new licenses applying the same ratio that USTR used to split the applicable overall TRQ. Any discrepancies in quantities at the individual license level are due to rounding.

Notice of this action and specific instructions on how to apply for the 2022 TRQ year for EU-27 and UK historical licenses under these TRQs are being provided to all current holders of EU-27 historical licenses for TRQs under Additional U.S. Notes 6, 16, 17, and 18. The notice and instructions are also posted on USDA Foreign Agricultural Service's Dairy Import Licensing Program's website at: https://www.fas.usda.gov/programs/dairy-import-licensing-program and also in the Community Notices section of the Agricultural Trade License Administration System (ATLAS).

Finally, with regard to Additional U.S. Note 16, Cheese and Substitutes for Cheese, the quantity in Appendix 1 for EU-27 historical licenses includes an additional 21,768 kg and the quantity for EU-27 lottery licenses in Appendix 2 includes a reduction of 21,768 kg. This corrects a clerical error in the previously published quantities for Appendices 1 and 2. The correction does not change the overall quantity allotted to the EU-27 or the UK under Additional U.S. Note 16.

Lori Tortora,
Licensing Authority.

Articles Subject to Dairy Import Licenses (Kilograms) ¹
| Historical licenses (Appendix 1) ² | Lottery licenses (Appendix 2) ³ | Sum of Appendix 1 & 2 ⁴ | Designated licenses (Tokyo round, Appendix 3) ⁴ | Designated licenses (Uruguay round, Appendix 4) ⁴ | Total ⁴
NON-CHEESE ARTICLES, Notes 6, 7, 8, 12, 14 (Appendix 1 reduction):
BUTTER (NOTE 6, Commodity Code G) (−19,466 kg) | 4,205,995 | 2,771,005 | 6,977,000 |  |  | 6,977,000
EU-27 ⁵ | 53,445 | 28,654 | 82,099 |  |  | 82,099
The United Kingdom | 9,154 | 4,908 | 14,062 |  |  | 14,062
New Zealand | 76,503 | 74,090 | 150,593 |  |  |
Other Countries | 35,382 | 38,553 | 73,935 |  |  |
Any Country (−19,466 kg) | 4,031,511 | 2,624,800 | 6,656,311 |  |  |
DRIED SKIM MILK (NOTE 7, Commodity Code K) | 0 | 5,261,000 | 5,261,000 |  |  | 5,261,000
Australia | 0 | 600,076 | 600,076 |  |  |
Canada | 0 | 219,565 | 219,565 |  |  |
Any Country | 0 | 4,441,359 | 4,441,359 |  |  |
DRIED WHOLE MILK (NOTE 8, Commodity Code H) | 0 | 3,321,300 | 3,321,300 |  |  | 3,321,300
New Zealand | 0 | 3,175 | 3,175 |  |  |
Any Country | 0 | 3,318,125 | 3,318,125 |  |  |
DRIED BUTTERMILK/WHEY (NOTE 12, Commodity Code M) | 0 | 224,981 | 224,981 |  |  | 224,981
Canada | 0 | 161,161 | 161,161 |  |  |
New Zealand | 0 | 63,820 | 63,820 |  |  |
BUTTER SUBSTITUTES CONTAINING OVER 45 PERCENT OF BUTTERFAT AND/OR BUTTER OIL (NOTE 14, Commodity Code SU) | 0 | 6,080,500 | 6,080,500 |  |  | 6,080,500
Any Country | 0 | 6,080,500 | 6,080,500 |  |  |
TOTAL: NON-CHEESE ARTICLES (−19,466 kg) | 4,205,995 | 17,658,786 | 21,864,781 |  |  | 21,864,781
CHEESE ARTICLES (Notes 16, 17, 18, 19, 20, 21, 22, 23, 25) (Appendix 1 reduction): |  |  |  |  |  |
CHEESE AND SUBSTITUTES FOR CHEESE (NOTE 16, Commodity Code OT (−648,520 kg) | 17,021,404 | 14,448,327 | 31,469,731 | 9,661,128 | 7,496,000 | 48,626,859
Argentina | 0 | 7,690 | 7,690 | 92,310 |  | 100,000
Australia (−522,506 kg) | 13,122 | 528,048 | 541,170 | 758,830 | 1,750,000 | 3,050,000
Canada (−54,507 kg) | 895,655 | 245,345 | 1,141,000 |  |  | 1,141,000
Costa Rica | 0 | 0 | 0 |  | 1,550,000 | 1,550,000
EU-27 (not including Portugal) (−34,573 kg) | 12,769,952 | 8,505,615 | 21,275,567 | 835,707 | 3,168,576 | 25,279,850
Portugal | 65,838 | 63,471 | 129,309 | 223,691 |  | 353,000
The United Kingdom | 1,118,071 | 744,709 | 1,862,780 | 73,170 | 277,424 | 2,213,374
Israel | 79,696 | 0 | 79,696 | 593,304 |  | 673,000
Iceland | 29,054 | 264,946 | 294,000 | 29,000 |  | 323,000
New Zealand (−18,155 kg) | 1,332,845 | 3,482,627 | 4,815,472 | 6,506,528 |  | 11,322,000
Norway | 122,860 | 27,140 | 150,000 |  |  | 150,000
Switzerland | 512,184 | 159,228 | 671,412 | 548,588 | 500,000 | 1,720,000
Uruguay | 0 | 0 | 0 |  | 250,000 | 250,000
Other Countries (−18,779) | 82,127 | 119,508 | 201,635 |  |  | 201,635
Any Country | 0 | 300,000 | 300,000 |  |  | 300,000
BLUE-MOLD CHEESE (NOTE 17, Commodity Code B) (−2,300 kg) | 1,930,826 | 550,175 | 2,481,001 |  | 430,000 | 2,911,001
Argentina | 2,000 | 0 | 2,000 |  |  | 2,000
EU-27 (−2,300 kg) | 1,912,724 | 545,581 | 2,458,305 |  | 347,078 | 2,805,383
The United Kingdom | 16,102 | 4,593 | 20,695 |  | 2,922 | 23,617
Chile | 0 | 0 | 0 |  | 80,000 | 80,000
Other Countries | 0 | 1 | 1 |  |  | 1
CHEDDAR CHEESE (NOTE 18, Commodity Code C) (−9,324 kg) | 2,286,995 | 1,996,861 | 4,283,856 | 519,033 | 7,620,000 | 12,422,889
Australia | 881,894 | 102,605 | 984,499 | 215,501 | 1,250,000 | 2,450,000
Chile |  | 0 | 0 |  | 220,000 | 220,000
EU-27 | 16,645 | 66,892 | 83,537 |  | 333,515 | 417,052
The United Kingdom | 35,759 | 143,704 | 179,463 |  | 716,485 | 895,948
New Zealand | 1,265,070 | 1,531,398 | 2,796,468 | 303,532 | 5,100,000 | 8,200,000
Other Countries (−9,324 kg) | 87,627 | 52,262 | 139,889 |  |  | 139,889
Any Country |  | 100,000 | 100,000 |  |  | 100,000
AMERICAN-TYPE CHEESE (NOTE 19, Commodity Code A) (−4,536 kg) | 1,146,898 | 2,018,655 | 3,165,553 | 357,003 | 0 | 3,522,556
Australia | 753,578 | 127,420 | 880,998 | 119,002 |  | 1,000,000
EU-27 (−4,536 kg) | 131,539 | 222,461 | 354,000 |  |  | 354,000
New Zealand | 158,725 | 1,603,274 | 1,761,999 | 238,001 |  | 2,000,000
Other Countries or Areas ⁶ | 103,056 | 65,500 | 168,556 |  |  | 168,556
EDAM AND GOUDA CHEESE (NOTE 20, Commodity Code D) (−10,902 kg) | 4,270,567 | 1,335,835 | 5,606,402 | 0 | 1,210,000 | 6,816,402
Argentina | 105,418 | 19,582 | 125,000 |  | 110,000 | 235,000
EU-27 (−10,902 kg) | 4,049,341 | 1,239,659 | 5,289,000 |  | 1,100,000 | 6,389,000
Norway | 111,046 | 55,954 | 167,000 |  |  | 167,000
Other Countries or Areas ⁶ | 4,762 | 20,640 | 25,402 |  |  | 25,402
ITALIAN-TYPE CHEESES (NOTE 21, Commodity Code D) (−232,929 kg) | 5,867,429 | 1,653,118 | 7,520,547 | 795,517 | 5,165,000 | 13,481,064
Argentina (−157,571 kg) | 3,530,236 | 595,247 | 4,125,483 | 367,517 | 1,890,000 | 6,383,000
EU-27 (−75,358 kg) | 2,337,193 | 1,044,807 | 3,382,000 |  | 2,025,000 | 5,407,000
Romania | 0 | 0 | 0 |  | 500,000 | 500,000
Uruguay | 0 | 0 | 0 | 428,000 | 750,000 | 1,178,000
Other Countries or Areas ⁶ | 0 | 13,064 | 13,064 |  |  | 13,064
SWISS OR EMMENTHALER CHEESE (NOTE 22 Commodity Code GR) | 4,228,895 | 2,422,419 | 6,651,314 | 823,519 | 380,000 | 7,854,833
EU-27 | 2,979,351 | 2,172,643 | 5,151,994 | 393,006 | 380,000 | 5,925,000
Switzerland | 1,216,046 | 203,441 | 1,419,487 | 430,513 |  | 1,850,000
Other Countries or Areas ⁶ | 33,498 | 46,335 | 79,833 |  |  | 79,833
LOW FAT CHEESE (NOTE 23, Commodity Code LF) | 1,173,766 | 3,251,142 | 4,424,908 | 1,050,000 | 0 | 5,474,908
EU-27 | 1,173,766 | 3,251,141 | 4,424,907 |  |  | 4,424,907
Israel | 0 | 0 | 0 | 50,000 |  | 50,000
New Zealand | 0 | 0 | 0 | 1,000,000 |  | 1,000,000
Other Countries or Areas ⁶ | 0 | 1 | 1 |  |  | 1
SWISS OR EMMENTHALER CHEESE WITH EYE FORMATION (NOTE 25, Commodity Code SW) (−108,457 kg) | 12,983,391 | 9,313,940 | 22,297,331 | 9,557,945 | 2,620,000 | 34,475,276
Argentina | 0 | 9,115 | 9,115 | 70,885 |  | 80,000
Australia | 209,698 | 0 | 209,698 | 290,302 |  | 500,000
Canada | 0 | 0 | 0 | 70,000 |  | 70,000
EU-27 (−108,457 kg) | 9,653,742 | 6,823,086 | 16,476,828 | 4,003,172 | 2,420,000 | 22,900,000
Iceland | 0 | 149,999 | 149,999 | 150,001 |  | 300,000
Israel | 27,000 | 0 | 27,000 |  |  | 27,000
Norway | 2,285,329 | 1,369,981 | 3,655,310 | 3,227,690 |  | 6,883,000
Switzerland | 759,369 | 924,736 | 1,684,105 | 1,745,895 | 200,000 | 3,630,000
Other Countries or Areas ⁶ | 48,253 | 37,023 | 85,276 |  |  | 85,276
TOTAL: CHEESE ARTICLES | 50,910,171 | 36,990,472 | 87,900,643 | 22,764,145 | 24,921,000 | 135,585,788
TOTAL: CHEESE & NON-CHEESE | 55,116,166 | 54,649,258 | 109,765,424 | 22,764,145 | 24,921,000 | 157,450,569
¹ Source of the total TRQs is the U.S. Harmonized Tariff Schedule, Chapter 4, in the corresponding Additional U.S. Notes.
² Reduced from 2020 by total of −1,036,434 KG.
³ Increased from 2020 by total of 1,036,434 KG.
⁴ No change.
⁵ The list of countries in Additional U.S. Note 2 to Chapter 4 now includes “Croatia” and omits “the United Kingdom.”
⁶ For Additional U.S. Notes 19 to 23 and 25, the UK will be eligible to export under the in-quota quantities allocated to “other countries or areas.”

[FR Doc. 2021-19106 Filed 9-1-21; 8:45 am]

BILLING CODE 3410-10-P